NATIONAL AERONAUTICS AND SPACE ADMINISTRATION

[Notice (01-061)]

NASA Advisory Council, Biological and Physical Research Advisory Committee, Meeting

AGENCY: National Aeronautics and Space Administration.

ACTION: Notice of meeting.

SUMMARY: In accordance with the Federal Advisory Committee Act, Public Law 92-463, as amended, the National Aeronautics and Space Administration announces a meeting of the NASA Advisory Council, Biological and Physical Research Advisory Committee.

DATES: Thursday, June 14, 2001, 10 a.m. to 5 p.m.; and Friday, June 15, 2001, 8 a.m. to 12 Noon.

ADDRESSES: National Aeronautics and Space Administration Headquarters, 300 E Street, SW., MIC-7, Room 7H46, Washington, DC 20546.

FOR FURTHER INFORMATION CONTACT: Dr. Bradley M. Carpenter, Code UG, National Aeronautics and Space Administration, Washington, DC 20546, 202/358-0826.

SUPPLEMENTARY INFORMATION: The meeting will be open to the public up to the seating capacity of the room. The agenda for the meeting is as follows:

—OBPR Personnel & Organization Status

—ISS Status

—OBPR Performance Targets

—Division Director's Reports—Status

—Interim Mission Status Report

—Subcommittee Reports

—Discussion of Committee Findings and Recommendations

It is imperative that the meeting be held on this date to accommodate the scheduling priorities of the key participants. Visitors will be requested to sign a visitor's register.

Dated: May 15, 2001.
Beth M. McCormick,
Advisory Committee Management Officer, National Aeronautics and Space Administration.

[FR Doc. 01-12537 Filed 5-17-01; 8:45 am]

BILLING CODE 7510-01-P